DEPARTMENT OF VETERANS AFFAIRS

Veterans' Rural Health Advisory Committee; Notice of Meeting

The Department of Veterans Affairs (VA) gives notice under Public Law 92-463 (Federal Advisory Committee Act) that the Veterans' Rural Health Advisory Committee will conduct a telephone conference call meeting from 2 p.m. to 3:30 p.m. on Thursday, July 16, 2009, at VA Central Office, 810 Vermont Avenue, NW., Washington, DC. The toll free number for the meeting is 1-866-802-4355, and the access code is 1372672. The meeting is open to the public.

The purpose of the Committee is to advise the Secretary of Veterans Affairs on health care issues affecting enrolled Veterans residing in rural areas. The Committee examines programs and policies that impact the provision of VA health care to enrolled Veterans residing in rural areas.

The Committee will meet to discuss the current status of the Office of Rural Health operations, progress towards completion of the Committee's first report to the Secretary and upcoming meeting dates.

A 15 minute period will be reserved at 3:15 p.m. for public comments. Members of the public may also submit a one (1) page summary of their comments for inclusion in the official meeting record. For additional information, please contact Kara Hawthorne, Designated Federal Officer, at rural.health.inquiry@va.gov or (202) 461-7100.

Dated: June 18, 2009.
By Direction of the Secretary.
E. Philip Riggin,
Committee Management Officer.

[FR Doc. E9-14824 Filed 6-23-09; 8:45 am]

BILLING CODE 8320-01-P